DEPARTMENT OF TRANSPORTATION

Federal Aviation Administration

14 CFR Part 39

[Docket No. 2001-NM-340-AD; Amendment 39-13030; AD 2003-03-06]

RIN 2120-AA64

Airworthiness Directives; Airbus Model A330 and A340 Series Airplanes

AGENCY: Federal Aviation Administration, DOT.

ACTION: Final rule.

SUMMARY: This amendment supersedes an existing airworthiness directive (AD), applicable to certain Airbus Model A330 and A340 series airplanes, that currently requires a one-time inspection of the rail release pins and parachute pins of the escape slide/raft pack assembly for correct installation, and corrective actions, if necessary. This amendment adds a requirement to modify the escape slides/slide rafts on the passenger, crew, and emergency exit doors. The actions specified by this AD are intended to prevent improper deployment of the escape slide/raft and blockage of the door in the event of an emergency evacuation. This action is intended to address the identified unsafe condition.

DATES: Effective March 5, 2003.

The incorporation by reference of Airbus Service Bulletin A330-25-3126, dated August 7, 2001; and Airbus Service Bulletin A340-25-4152, dated August 7, 2001; as listed in the regulations, is approved by the Director of the Federal Register as of March 5, 2003.

The incorporation by reference of Airbus Industrie Service Bulletin A330-25-3086, including Appendix 01, Revision 01, dated June 11, 1999; and Airbus Industrie Service Bulletin A340-25-4115, including Appendix 01, Revision 01, dated June 11, 1999; as listed in the regulations, was approved previously by the Director of the Federal Register as of November 26, 1999 (64 FR 56963, October 22, 1999).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 99-22-07, amendment 39-11385 (64 FR 56963, October 22, 1999), which is applicable to certain Airbus Model A330 and A340 series airplanes, was published in the Federal Register on September 13, 2002 (67 FR 57982). The action proposed to continue to require a one-time inspection of the rail release pins and parachute pins of the escape slide/raft pack assembly for correct installation, and corrective actions, if necessary. The action also proposed to require modification of the escape slides/slide rafts on the passenger, crew, and emergency exit doors.

Comments

Interested persons have been afforded an opportunity to participate in the making of this amendment. Due consideration has been given to the comments received.

Request To Allow Part Installations

Two commenters request that the notice of proposed rulemaking (NPRM) be revised to allow installation of an unmodified slide on Model A330 series airplanes, until the compliance deadline. These commenters state that if the AD does not allow unmodified slides to be installed after the effective date of the AD, all unmodified spares would become unserviceable at that time. This would require the personnel at the slide shops to complete spares modification at an accelerated rate, which would increase the cost of this modification.

The FAA does not agree. This AD does not contain any provisions that prohibit operators from installing an unmodified slide on an airplane before they accomplish the modification required by paragraph (b) of this AD. However, once the compliance threshold (i.e., 36 months after the effective date of this AD) has been reached for modification, operators are prohibited from replacing an improved part with an old part under 14 Code of Federal Regulations (CFR) 39.3. No change to the final rule is necessary.

Conclusion

After careful review of the available data, including the comments noted above, we have determined that air safety and the public interest require the adoption of the rule as proposed.

Cost Impact

There are approximately nine airplanes of U.S. registry that will be affected by this AD.

The inspection currently required by AD 99-22-07 takes approximately 7 work hours per airplane to accomplish, at an average labor rate of $60 per work hour. Based on these figures, the cost impact of the currently required actions on U.S. operators is estimated to be $3,780, or $420 per airplane.

The modification required in this AD action will take approximately 11 work hours per airplane to accomplish, at an average labor rate of $60 per work hour. Required parts will cost approximately $3,136 per airplane. Based on these figures, the cost impact of the requirements of this AD on U.S. operators is estimated to be $34,164, or $3,796 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11385 (64 FR 56963, October 22, 1999), and by adding a new airworthiness directive (AD), amendment 39-13030, to read as follows:

2003-03-06 Airbus: Amendment 39-13030. Docket 2001-NM-340-AD. Supersedes AD 99-22-07, Amendment 39-11385.

Applicability: Model A330 and A340 series airplanes, certificated in any category; excluding those modified in production by Airbus Modification 48840, 48841, 48842, or 48843.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent improper deployment of the escape slide/raft and blockage of the door in the event of an emergency evacuation, accomplish the following:

Restatement of Requirements of AD 99-22-07

Inspection

(a) Within 2,000 flight hours or 6 months after November 26, 1999 (the effective date of AD 99-22-07, amendment 39-11385), whichever occurs later, except as provided by paragraph (b) of this AD: Perform a one-time detailed inspection of the rail release pins and parachute pins of the escape slide/raft pack assembly installed on all passenger/crew doors (type A) and emergency exit doors (type A or type 1) for correct installation, in accordance with Airbus Industrie Service Bulletin A330-25-3086 (for Model A330 series airplanes) or A340-25-4115 (for Model A340 series airplanes), both Revision 01, both dated June 11, 1999.

(1) During the inspection performed in accordance with paragraph (a) of this AD, if a rail release pin of the escape slide/raft pack assembly is found to be missing or incorrectly installed: Prior to further flight, re-install the rail release pin into the release rail or, if re-installation is not possible, remove the discrepant escape slide/raft pack assembly and replace with a new pack assembly of the same part number; in accordance with the applicable service bulletin.

(2) During the inspection performed in accordance with paragraph (a) of this AD, if a parachute pin of the escape slide/raft pack assembly is found to be missing or incorrectly installed: Prior to further flight, remove the discrepant escape slide/raft pack assembly and replace with a new pack assembly of the same part number; in accordance with the applicable service bulletin.

New Requirements of this AD

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Modification

(b) Within 36 months after the effective date of this AD: Modify the escape slides/slide rafts on the passenger, crew, and emergency exit doors. The modification includes replacing—with new or modified parts—the alignment bushing in the release rails, the existing rail release pin lanyards from the girt or girt attachment, and the rail adapters from the packboard. Do the modification in accordance with Airbus Service Bulletin A330-25-3126 (for Model A330 series airplanes) or A340-25-4152 (for Model A340 series airplanes), both dated August 7, 2001. If the modification is done within the compliance time for the inspection specified in paragraph (a) of this AD, the inspection is not required.

Note 3: Airbus Service Bulletins A330-25-3126 and A340-25-4152 refer to BF Goodrich Service Bulletin 25-306, dated July 30, 2001, as an additional source of service information for the modification.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done in accordance with Airbus Service Bulletin A330-25-3126, dated August 7, 2001; Airbus Service Bulletin A340-25-4152, dated August 7, 2001; Airbus Industrie Service Bulletin A330-25-3086, including Appendix 01, Revision 01, dated June 11, 1999; and Airbus Industrie Service Bulletin A340-25-4115, including Appendix 01, Revision 01, dated June 11, 1999; as applicable.

(1) This incorporation by reference of Airbus Service Bulletin A330-25-3126, dated August 7, 2001; and Airbus Service Bulletin A340-25-4152, dated August 7, 2001; is approved by the Director of the Federal Register in accordance with 5 U.S.C. 552(a) and 1 CFR part 51.

(2) The incorporation by reference of Airbus Industrie Service Bulletin A330-25-3086, including Appendix 01, Revision 01, dated June 11, 1999; and Airbus Industrie Service Bulletin A340-25-4115, including Appendix 01, Revision 01, dated June 11, 1999; was approved previously by the Director of the Federal Register as of November 26, 1999 (64 FR 56963, October 22, 1999).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directives 2001-465(B) R1 and 2001-464(B) R1, both dated October 17, 2001.

Effective Date

(f) This amendment becomes effective on March 5, 2003.

Issued in Renton, Washington, on January 22, 2003.
Vi L. Lipski,
Manager, Transport Airplane Directorate, Aircraft Certification Service.

[FR Doc. 03-1829 Filed 1-28-03; 8:45 am]

BILLING CODE 4910-13-P